DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with January anniversary dates. In accordance with Commerce's regulations, we are initiating those administrative reviews.

DATES: Applicable February 21, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with January anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, except for the administrative review of the AD order on wooden bedroom furniture from the People's Republic of China (China), for which the Q&V questionnaire is in a document package online, Commerce intends to place the Q&V questionnaire on the record of the review within five days of publication of the initiation notice. In either case, we intend to make our decision regarding respondent selection within 35 days of publication of the initiation notice in the Federal Register. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Respondent Selection—Wooden Bedroom Furniture From China

In the event that Commerce limits the number of respondents individually examined in the administrative review of the AD order on wooden bedroom furniture from China, for purposes of the January 1, 2024, through December 31, 2024, POR, Commerce intends to select respondents based on volume data contained in responses to a Q&V questionnaire. All parties under review with respect to the AD order on wooden bedroom furniture from China, are hereby notified that they must timely respond to the Q&V questionnaire and certain additional questions. Commerce's Q&V questionnaire, along with certain additional questions, will be available in a document package at https://access.trade.gov/Resources/prc-WBF-document-Package.pdf on the date that this notice is published in the Federal Register. A response to the Q&V questionnaire and the additional questions must be received by Commerce by no later than 21 days after publication of this notice in the Federal Register. Please be advised that due to the time constraints imposed by the statutory and regulatory deadlines for completing AD administrative reviews, Commerce does not intend to grant any extensions of time to respond to the Q&V questionnaire or the additional questions.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire. All firms that wish to qualify for separate rate status in the administrative review of the AD order on wooden bedroom furniture from China, must complete, as appropriate, either a Separate Rate Application or Certification, and respond to the Q&V questionnaire and the additional questions at https://access.trade.gov/Resources/prc-WBF-document-Package.pdf.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice, for the administrative review of the AD order on wooden bedroom furniture from China, a response to the Q&V questionnaire and the additional questions in the document package described above are due to Commerce no later than 21 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. In addition to filing a Separate Rate Application with Commerce no later than 14 calendar days after publication of this Federal Register notice, for the administrative review of the AD order on wooden bedroom furniture from China, a response to the Q&V questionnaire and the additional questions in the document package described above, are due to Commerce no later than 21 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Furthermore, this notice constitutes public notification to all firms for which an administrative review of the AD order on wooden bedroom furniture from China has been requested, that are seeking separate rate status in the review, that they must submit a timely filed Separate Rate Application or Certification (as appropriate) as described above, and a timely filed response to the Q&V questionnaire and the additional questions in the document package in order to receive consideration for separate-rate status. In other words, in the administrative review of the AD order on wooden bedroom furniture from China, Commerce will not give consideration to any timely filed Separate Rate Application or Certification from a party who failed to timely respond to the Q&V questionnaire and the additional questions. All information submitted by respondents in the administrative review of the AD order on wooden bedroom furniture from China is subject to verification. As noted above, the Separate Rate Application and the Separate Rate Certification will be available on Commerce's website, and the Q&V questionnaire and the additional questions will be available at https://access.trade.gov/Resources/prc-WBF-document-Package.pdf on the date of publication of this notice in the Federal Register.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf. Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than January 31, 2026.

| Period to be reviewed
AD Proceedings
CANADA: Softwood Lumber, A-122-857 | 1/1/24-12/31/24
0752615 B.C. Ltd., Fraserview Remanufacturing Inc., Fraserview Cedar Products.
10104704 Manitoba Ltd, Woodstock Forest Products
5214875 Manitoba Ltd.
54 Reman
9224-5737 Quebec inc., A.G. Bois
AA Trading Ltd.
Absolute Lumber Products Ltd.
Adwood Manufacturing Ltd.
AJ Forest Products Ltd.
Aler Forest Products Ltd.
All American Forest Products Inc.
Alpa Lumber Mills Inc.
Andersen Pacific Forest Products Ltd.
Anglo-American Cedar Products Ltd., Anglo American Cedar Products Ltd.
Antrim Cedar Corporation
Aquila Cedar Products Ltd.
Arbec Lumber Inc., Arbec Bois Doeuvre Inc.
Ashlaur Trading
Aspen Pacific Industries Inc.
Aspen Planers Ltd.
B&L Forest Products Ltd.
B.B. Pallets Inc., Les Palettes B.B. Inc.
Babine Forest Products Limited
Bakerview Forest Products Inc.
Bardobec Inc.
Barrette-Chapais Ltee
BarretteWood Inc.
Benoît & Dionne Forest Products Ltd., Benoît & Dionne Produits Forestiers Ltee
Best Quality Cedar Products Ltd.
Blanchet Multi Concept Inc.
Blanchette & Blanchette Inc.
Bois Aise de Montreal Inc.
Bois Bonsaï Inc.
Bois Daaquam Inc., Daaquam Lumber Inc.
Bois Weedon Inc.
Boisaco Inc.
Boscus Canada Inc.
Boucher Bros. Lumber Ltd.
BPWood Ltd.
Bramwood Forest Inc.
Brink Forest Products Ltd.
Brunswick Valley Lumber Inc.
Burrows Lumber (CD) Ltd., Theo A. Burrows Lumber Company Limited
Busque & Laflamme Inc.
Campbell River Shake & Shingle Co. Ltd.
Canada Pallet Corp.
Canadian Bavarian Millwork & Lumber Ltd.
Canadian Overseas Log and Lumber
Canasia Forest Industries Ltd.
Canfor Wood Products Marketing Ltd., Canadian Forest Products Ltd., Canfor Corporation, Canfor Fox Creek Ltd., Canfor Whitecourt Ltd.
Canyon Lumber Company Ltd.
Careau Bois inc.
Carl Wood Lumber Ltd.
Carrier & Begin Inc.
Carrier Forest Products Ltd.
Carrier Lumber Ltd.
Carter Forest Products Inc.
Cedar Island Forest Products Ltd.
Cedar Valley Holdings Ltd.
Cedarcoast Lumber Products
Cedarland Forest Products Ltd.
Cedarline Industries Ltd.
Cedrico Lumber Inc., Bois D'oeuvre Cedrico Inc.
Central Alberta Pallet Supply
Central Cedar Ltd.
Central Forest Products Inc.
Centurion Lumber Ltd.
Chaleur Forest Products Inc.
Chaleur Forest Products LP
Channel-ex Trading Corporation
CHAP Alliance, Inc.
Chinook Wood Products Ltd.
Clair Industrial Development Corp. Ltd.
Clermond Hamel Ltee
CLG Enterprises Inc.
CNH Products Inc.
Coast Clear Wood Ltd.
Coast Mountain Cedar Products Ltd.
Coastland Wood Industries
Columbia River Shake & Shingle Ltd., Teal Cedar Products Ltd., The Teal Jones Group
Commonwealth Plywood Co. Ltd.
Comox Valley Shakes Ltd. (2019), Comox Valley Shakes (2019) Ltd.
Conifex Fibre Marketing Inc.
Coulson Manufacturing Ltd.
Cowichan Lumber Ltd.
CS Manufacturing Inc., Cedarshed
CWP—Industriel Inc.
CWP—Montreal Inc.
D & D Pallets Ltd.
Dakeryn Industries Ltd.
Decker Lake Forest Products Ltd.
Deep Cove Forest Products, Inc.
Delco Forest Products Ltd.
Delta Cedar Specialties Ltd.
Devon Lumber Co. Ltd.
DH Manufacturing Inc.
Direct Cedar Supplies Ltd.
Distribution Rioux Inc.
DMM Forest Products Inc.
Doubletree Forest Products Ltd.
Downie Timber Ltd.
Dunkley Lumber Ltd.
EACOM Timber Corporation
East Fraser Fiber Co. Ltd.
East Mountain Forest Products Ltd.
Edgewood Forest Products Inc.
Elrod Cartage Ltd.
ER Probyn Export Ltd.
Falcon Lumber Ltd.
Fontaine Inc.
Foothills Forest Products Inc.
Fort St. James Forest Products Limited Partnership
Fraser Specialty Products Ltd.
FraserWood Industries Ltd.
Furtado Forest Products Ltd.
Galloway Lumber Company Ltd.
Glandell Enterprises Inc.
Goldband Shake & Shingle Ltd.
Goldwood Industries Ltd.
Goodfellow Inc.
Gorman Bros. Lumber Ltd.
Greendale Industries Inc.
GreenFirst Forest Products (QC) Inc.
Greenwell Resources Inc.
Griff Building Supplies Ltd.
Groupe Crete Chertsey Inc.
Groupe Crete Division St-Faustin Inc.
Groupe Lebel Inc.
Groupe Lignarex Inc.
H.J. Crabbe & Sons Ltd.
Haida Forest Products Ltd.
Halo Sawmill, a division of Delta Cedar Specialties Ltd., Halo Sawmill Manufacturing Limited Partnership
Hampton Lumber Sales Canada, Hampton Tree Farms, LLC
Harmac Pacific
Hillcore Lakeside Pacific Forest Products Ltd
Horizon Coatings Inc.
Hornepayne Lumber LP
Hudson Mitchell & Sons Lumber Inc.
Hy Mark Wood Products Inc.
Imperial Cedar Products Ltd.
Independent Building Materials Distribution Inc.
Interfor Sales & Marketing Ltd., Interfor Corporation
Intertran Holdings Ltd., Richmond Terminal
Island Cedar Products Ltd.
Ivor Forest Products Ltd.
J&G Log Works Ltd.
J.D. Irving, Limited
J.H. Huscroft Ltd.
Jan Woodlands (2001) Inc.
Jasco Forest Products Ltd.
Jazz Forest Products Ltd.
Jhajj Lumber Corporation
Kalesnikoff Lumber Co. Ltd.
Kan Wood Ltd.
Kebois Ltee, Kebois Ltd.
Kelfor Industries Ltd.
Kermode Forest Products Ltd.
Keystone Timber Ltd.
Kings Wood Products Inc.
Kirkland Lake Forest Products Inc.
La Crete Sawmills Ltd.
Lafontaine Lumber Inc.
Langevin Forest Products Inc.
Lecours Lumber Co. Limited
Leisure Lumber Ltd.
Les Bardeaux Lajoie Inc.
Les Bois d'oeuvre Beaudoin Gauthier Inc.
Les Bois Martek Lumber
Les Bois Traites M.G. Inc.
Les Chantiers de Chibougamau Ltd., Les Chantiers de Chibougamau Ltee
Les Industries P.F. Inc.
Les Produits Forestiers D&G Ltee, D&G Forest Products Ltd.
Les Produits Forestiers Portbec Ltee, Portbec Forest Products Ltd.
Leslie Forest Products Ltd.
Lignum Forest Products LLP
Linwood Homes Ltd.
Lonestar Lumber lnc.
Lulumco Inc.
Madera Forest Products INC
Magnum Forest Products Ltd.
Maibec Inc.
Manitou Forest Products Ltd.
Manning Forest Products Ltd., Sundre Forest Products Inc., Blue Ridge Lumber Inc., West Fraser Mills Ltd.
Marcel Lauzon Inc.
Marwood Ltd.
Materiaux Blanchet Inc.
Metrie Canada Ltd.
Mid Valley Lumber Specialties Ltd.
Midway Lumber Mills Ltd.
Mill & Timber Products Ltd.
Millar Western Forest Products Ltd.
Mirax Lumber Products Ltd.
Mobilier Rustique (Beauce) Inc.
Modern Terminal Ltd.
Monterra Lumber Mills Limited
Morwood Forest Products Inc.
Multicedre Ltee
Murray Brothers Lumber Company Ltd.
Nagaard Sawmill Ltd.
Nakina Lumber Inc.
National Forest Products Ltd.
Nicholson and Cates Ltd.
Nickel Lake Lumber
Norsask Forest Products Inc.
Norsask Forest Products Limited Partnership
North American Forest Products Ltd. (located in Abbotsford, British Columbia)
North American Forest Products Ltd. (located in Saint-Quentin, New Brunswick)
North Enderby Timber Ltd.
Northland Forest Products Ltd.
NSC Lumber Ltd.
Ntityix Resources LP
Oakwood Manufacturing A Division of Weston Forest Products Inc.
Olympic Industries Inc.
Olympic Industries ULC
Oregon Canadian Forest Products, Oregon Canadian Forest Products Inc.
Otter Point Timber LTD
Pacific Coast Cedar Products Ltd.
Pacific Lumber Remanufacturing Inc.
Pacific NorthWest Lumber Ltd.
Pacific Pallet Ltd.
Pacific Western Wood Works Ltd.
PalletSource Inc.
Parallel Wood Products Ltd.
Partap Forest Products Ltd.
Partap Industries
Pat Power Forest Products Corporation
Peak Industries (Cranbrook) Ltd.
Phoenix Forest Products Inc.
Pine Ideas Ltd.
Pioneer Pallet & Lumber Ltd.
Plaster Rock Lumber Corporation
Porcupine Wood Products Ltd.
Power Wood Corp.
Precision Cedar Products Corp.
Probyn Log
Produits Forestiers Petit Paris Inc.
Produits Forestiers Temrex S.E.C., Temrex Forest Products LP
Produits Matra Inc.
Promobois G.D.S. Inc.
Quadra Cedar, 1074712 BC Ltd.
R.A. Green Lumber Ltd.
RBC Timber Products
Rembos Inc.
Rene Bernard Inc.
Resolute-LP Engineered Wood St-Prime Limited Partnership, Forest Products Mauricie LP, Societe en commandite Scierie Opitciwan, Resolute Growth Canada Inc., Resolute FP Canada Inc., Resolute-LP Engineered Wood Larouche Inc.
Rick Dubois
Rielly Industrial Lumber Inc.
River City Remanufacturing Inc.
Riverside Forest Products Inc.
S&R Sawmills Ltd.
S&W Forest Products Ltd.
San Group
San Industries Ltd.
Sapphire Lumber Company
Sawarne Lumber Co. Ltd.
Scierie Alexandre Lemay & Fils Inc.
Scierie St-Michel Inc.
Scierie West Brome Inc.
Scott Lumber Sales, Scott Lumber Sales Ltd.
Sechoirs de Beauce Inc.
Shakertown Corp.
Sigurdson Forest Products Ltd.
Silvaris Corporation
Sinclar Group Forest Products Ltd.
Sitka Forest Products Inc., Les Produits Forestiers Sitka Inc.
Skana Forest Products Ltd.
Skeena Sawmills Ltd.
Smart Wood Forest Products Ltd.
Sonora Logging Ltd.
Source Forest Products
South Beach Trading Inc.
South Coast Reman Ltd., Southcoast Millwork Ltd.
South Fraser Container Terminals
SPEC Wood & Marketing Solution, Bois et Solutions Marketing SPEC, Inc., SPEC Wood and Marketing Solutions Inc.
Specialiste du Bardeau de Cedre Inc., Specialiste du Bardeau de Cedre Inc. (SBC)
Spruceland Millworks Inc.
Star Lumber Canada Ltd.
Storey Creek Trading
Straight Edge Milling Ltd.
Suncoast Industries Inc.
Suncoh Custom Lumber Ltd.
Sundher Timber Products Inc.
Surplus G Rioux
Surrey Cedar Ltd.
Swiftwood Forest Products Ltd.
T&P Trucking Ltd.
Taan Forest Limited Partnership, Taan Forest Products
Taiga Building Products Ltd.
Tall Tree Lumber Company
Tenryu Canada Corporation
Terminal Forest Products Ltd.
Terminal Forest Products Ltd., Mainland Sawmill, a division of Terminal Forest Products Ltd.
TG Wood Products Ltd.
The Wood Source Inc.
Tolko Marketing and Sales Ltd., Tolko Industries Ltd., Gilbert Smith Forest Products Ltd.
Top Quality Lumber Ltd.
TRAPA Forest Products Ltd.; Trans-Pacific Trading Ltd.
Triad Forest Products Ltd.
Twin Rivers Paper Co. Inc.
Tyee Timber Products Ltd.
Universal Lumber Sales Ltd.
Usine Sartigan Inc.
Vaagen Fibre Canada ULC
Valley Cedar 2 Inc.
Vancouver Specialty Cedar Products Ltd.
Vancouver Urban Timberworks Ltd.; Van Urban
Vanderhoof Specialty Wood Products Ltd.
Vanderwell Contractors (1971) Ltd.
Visscher Lumber Inc.
W.I. Woodtone Industries Inc.
Waldun Forest Product Sales Ltd.
Watkins Sawmills Ltd.
Welco Lumber Corp.
West Bay Forest Products Ltd.
West Coast Panel Cutters
Western Canadian Timber Products LTD
Western Forest Products Inc.
Western Lumber Sales Limited
Western Timber Products, Inc.
Westminster Industries Ltd.
Weston Forest Products Inc.
Westrend Exteriors Inc.
Weyerhaeuser Co.
White River Forest Products L.P.
Winton Homes Ltd.
Woodline Forest Products Ltd.
Woodtone Specialties Inc.
WWW Timber Products Ltd.
GERMANY: Forged Steel Fluid End Blocks, A-428-847 | 1/1/24-12/31/24
BGH Edelstahl Siegen GmbH
INDIA: Polyester Textured Yarn, A-533-885 | 1/1/24-12/31/24
AYM Syntex Ltd.
ITALY: Forged Steel Fluid End Blocks, A-475-840 | 1/1/24-12/31/24
Cogne Acciai Speciali S.p.A.
Forge Monchieri S.p.A.
Liberty Energy, Inc. d/b/a Liberty Advanced Equipment Technology
Lucchini Mamé Forge S.p.A.
Officine Galperti S.p.A. d/b/a Galperti Group
Officine Meccaniche Roselli S.r.l.
ST9 Gas + Oil LLC
THAILAND: Prestressed Concrete Steel Wire Strand, A-549-820 | 1/1/24-12/31/24
The Siam Industrial Wire Co., Ltd.
THE PEOPLE'S REPUBLIC OF CHINA: Calcium Hypochlorite, A-570-008 | 1/1/24-12/31/24
Sinabuddy Mineral Co., Ltd.
Xuanxiang Ceramics Mfy Co., Ltd.
THE PEOPLE'S REPUBLIC OF CHINA: Certain Hardwood Plywood Products, A-570-051 | 1/1/24-12/31/24
Anhui Hoda Wood Co., Ltd.
Bizlink Technology Inc.
BTR New Material Group Co., Ltd.
Celtic Co., Ltd
China Friend Limited
Cosco Star International Co., Ltd.
Dalian Sicily Wood Industry Co., Ltd.
Dongguan Starhome Technology Co. Ltd.
First Part Manufacturing Limited
Fujian Yuansheng Wood., Ltd
Fusong Jinlong Wooden Group Co., Ltd.
Golder International Trade Co., Ltd
Happy Wood Industrial Group Co., Ltd.
Hainan Golden Shell Co. Ltd.
Huainan Mengping Import and Export Co., Ltd
Jiangsu Top Point International Co., Ltd
Jiaxing Gsun Imp. & Exp. Co., Ltd
Jiangsu High Hope Arser Co., Ltd
Jiaxing Hengtong Wood Co., Ltd.
Lianyungang Yuantai International Co. Ltd.
Ligroup China Co., Ltd.
Linyi City Dongfang Fukai Wood Industry Co., Ltd
Linyi City Shenrui International Trade Co., Ltd
Linyi Dahua Wood Co., Ltd
Linyi Dongstar Import & Export Co., Ltd
Linyi Evergreen Wood Co., Ltd.
Linyi Glary Plywood Co., Ltd.
Linyi Hanbo Import & Export Co. Ltd.
Linyi Hengsheng Wood Industry Co., Ltd
Linyi Highwise International Co. Ltd.
Linyi Huasheng Yongbin Wood Co., Ltd.
Linyi Jiahe Wood Industry Co., Ltd.
Linyi Linhai Wood Co., Ltd
Linyi Mingzhu Wood Co., Ltd
Phihong Technology Co., Ltd.
Pingyi Jinniu Wood Co., Ltd
Linyi Sanfortune Wood Co., Ltd.
Lianyungang Yuantai International Trade Co., Ltd
Qingdao Good Faith Import and Export Co., Ltd
Qingdao Top P&Q International Corp.
Shandong Baozhu International Co., Ltd.
Shandong Good Wood Import and Export Co., Ltd.
Shandong Qishan International Trading Co., Ltd
Shanghai Brightwood Trading Co., Ltd.
Shanghai Futuwood Trading Co., Ltd.
Shanghai Luli Trading Co., Ltd.
Shenzhen Joyton Import and Export Co., Ltd.
Shenzhen Kedali Industry Co., Ltd.
Shouguang Topbon Import and Export Co., Ltd.
Suining Pengxiang Wood Co., Ltd
Sumec International Technology Co., Ltd
Sun Chain Trading Co., Ltd.
Suqian Hopeway International Trade Co., Ltd.
Suzhou Dongsheng Wood Co., Ltd
Suzhou Fengshuwan Import and Exports Trade Co., Ltd
Suzhou Oriental Dragon Import and Export Co., Ltd.
Trieu Thai Son Co., Ltd.
Xuzhou Andefu Wood Co., Ltd
Xuzhou Amish Import and Export Co., Ltd.
Xuzhou DNT Commercial Co., Ltd
Xuzhou Eastern Huatai International Trading Co., Ltd
Xuzhou Huanghuai Wood Co., Ltd.
Xuzhou Jiangheng Wood Products Co., Ltd.
Xuzhou Longyuan Wood Industry Co., Ltd
Xuzhou Pinlin International Trade Co., Ltd
Xuzhou Shengping Imp and Exp Co., Ltd
Xuzhou Shelter Import & Export Co., Ltd
Xuzhou Shuner Import & Export Trade Co. Ltd
Xuzhou Timber International Trade Co., Ltd.
Xuzhou Yishun Brightwood Co., Ltd.
Yangzhou Hanov International Co., Ltd.
Zhejiang Layo Wood Industry Co., Ltd
Zhejiang Xingke Wood Co., Ltd
Zhejiang Yuhua Timber Co., Ltd
THE PEOPLE'S REPUBLIC OF CHINA: Crystalline SiliconPhotovoltaic Cells, Whether or Not Assembled into Modules,⁴ A-570-979 | 12/1/23-11/30/24
Vietnam Sunergy Joint Stock Company
THE PEOPLE'S REPUBLIC OF CHINA: Wooden Bedroom Furniture, A-570-890 | 1/1/24-12/31/24
Dongguan Chengcheng Furniture Co., Ltd.
Eurosa (Kunshan) Co., Ltd., Eurosa Furniture Co., (PTE) Ltd.
Fine Furniture (Shanghai) Ltd.
Golden Lion International Trading Ltd., Shenzhen Jiafa High Grade Furniture Co., Ltd.
Golden Well International (HK), Ltd.
Guangzhou Maria Yee Furnishings Ltd., Pyla HK Ltd., Maria Yee, Inc.
Jiangmen Kinwai Furniture Decoration Co., Ltd.
Jiangmen Kinwai International Furniture Co., Ltd
Jiangsu Xiangsheng Bedtime Furniture Co., Ltd.
Jiangsu Yuexing Furniture Group Co., Ltd.
Nanhai Jiantai Woodwork Co. Ltd., Fortune Glory Industrial, Ltd. (HK Ltd.)
Nathan International Ltd., Nathan Rattan Factory
Perfect Line Furniture Co., Ltd.
PuTian JingGong Furniture Co., Ltd.
Rui Feng Woodwork Co., Ltd., Rui Feng Lumber Development Co., Ltd., Dorbest Ltd.
Shenyang Shining Dongxing Furniture Co., Ltd.
Shenzhen New Fudu Furniture Co., Ltd.
Shenzhen Wonderful Furniture Co., Ltd.
Tradewinds Furniture Ltd. (successor-in-interest to Nanhai Jiantai Woodwork Co.), Fortune Glory Industrial Ltd. (H.K. Ltd.)
Wanvog Furniture (Kunshan) Co., Ltd.
Wuxi Yushea Furniture Co., Ltd.
Yeh Brothers World Trade Inc.
Zhangjiagang Daye Hotel Furniture Co. Ltd.
Zhangzhou Guohui Industrial & Trade Co. Ltd.
Zhangzhou XMB Furniture Product Co., Ltd.
Zhejiang Tianyi Scientific & Educational Equipment Co., Ltd.
Zhongshan Fookyik Furniture Co., Ltd.
Zhongshan Golden King Furniture Industrial Co., Ltd.
Zhoushan For-Strong Wood Co., Ltd.
CVD Proceedings
CANADA: Softwood Lumber, C-122-858 | 1/1/24-12/31/24
0752615 B.C Ltd; Fraserview Remanufacturing Inc, dba Fraserview Cedar Products
10104704 Manitoba Ltd O/A Woodstock Forest Products
1074712 BC Ltd. (Quadra Cedar)
258258 B.C. Ltd., dba Pacific Coast Cedar Products
5214875 Manitoba Ltd.; AM Lumber Brokerage
A.B. Cedar Shingle Inc.
Absolute Lumber Products Ltd.
Adwood Manufacturing Ltd.
AJ Forest Products Ltd.
Alberta Spruce Industries Ltd.
Aler Forest Products, Ltd.
Alpa Lumber Mills Inc.
American Pacific Wood Products
Anbrook Industries
Andersen Pacific Forest Products Ltd.
Antrim Cedar Corporation
Aquila Cedar Products Ltd.
Arbec Lumber Inc. (aka Arbec Bois Doeuvre Inc.)
Ashlaur Trading
Aspen Planers Ltd.
B.B. Pallets Inc. (aka Les Palettes B.B. Inc.)
Babine Forest Products Limited
Bakerview Forest Products Inc.
Barrette-Chapais Ltee
BarretteWood Inc. (BarretteBois Inc.)
Benoit & Dionne Produits Forestiers Ltee (aka Benoit & Dionne Forest Products Ltd.)
Blanchet Multi Concept Inc.
Bois Aise de Montreal Inc.
Bois Bonsai Inc.
Bois D'oeuvre Cedrico Inc. (aka Cedrico Lumber Inc.)
Bois Daaquam inc. (aka Daaquam Lumber Inc.)
Bois et Solutions Marketing SPEC, Inc. (aka SPEC Wood & Marketing Solution or SPEC Wood and Marketing Solutions Inc.)
Bois Weedon Inc.
Boisaco Inc.
Boscus Canada Inc.
Boucher Bros. Lumber Ltd.
BPWood Ltd.
Bramwood Forest Inc.
Brink Forest Products Ltd.
Busque & Laflamme Inc.
C&C Wood Products Ltd.
Caledonia Forest Products Inc.
Canadian American Forest Products Ltd.
Canadian Bavarian Millwork & Lumber Ltd.
Canadian Forest Products, Ltd.; Canfor Corporation; Canfor Wood Products Marketing, Ltd.
Canadian Overseas Log and Lumber
Canadian Wood Products—Montreal Inc. (CWP—Montreal Inc.)
Canadian Wood Products Inc.
Canasia Forest Industries Ltd.
Canusa Cedar Inc.
Canyon Lumber Company, Ltd.
Careau Bois Inc.
Carrier & Begin Inc.
Carrier Forest Products Ltd
Carrier Lumber Ltd.
Carter Forest Products Inc.
Cedarland Forest Products Ltd.
Cedarline Industries Ltd.
Central Cedar Ltd.
Central Forest Products Inc.
Centurion Lumber Ltd.
Channel-ex Trading Corporation
CHAP Alliance Inc.
Chinook Wood Products Ltd.
Clair Industrial Development Corp. Ltd
Clermond Hamel Ltee
CLG Enterprises Inc.
Coastland Wood Industries
Columbia River Shake & Shingle Ltd.; Teal Cedar Products Ltd., dba The Teal Jones Group
Commonwealth Plywood Co. Ltd.
Conifex Fibre Marketing Inc.
Cowichan Lumber Ltd.
CS Manufacturing Inc., dba Cedarshed
CWP Industriel Inc. (aka CWP—Industriel Inc.)
D & D Pallets Ltd.
Dakeryn Industries Ltd.
Decker Lake Forest Products Ltd.
Deep Cove Forest Products, Inc.
Delco Forest Products Ltd.
Delta Cedar Specialties Ltd.
Devon Lumber Co. Ltd.
DH Manufacturing Inc.
DMM Forest Products Inc.
Doubletree Forest Products Ltd.
Downie Timber Ltd.
Dunkley Lumber Ltd.
East Fraser Fiber Co. Ltd.
East Mountain Forest Products Ltd
Edgewood Forest Products Inc.
ER Probyn Export Ltd.
Eric Goguen & Sons Ltd.
Falcon Lumber Ltd
Fontaine Inc.; Gestion Natanis Inc.; Les Placements Jean-Paul Fontaine Ltee; Placements Nicolas Fontaine Inc.
Foothills Forest Products Inc
Fort St. James Forest Products Limited Partnership
Fraser Specialty Products Ltd.
FraserWood Inc.
FraserWood Industries Ltd.
Furtado Forest Products Ltd.
G & R Cedar Ltd.
Gilbert Smith Forest Products Ltd.
Goat Lake Forest Products Ltd.
Goldband Shake & Shingle Ltd.
Golden Ears Shingle Ltd.
Goldwood Industries Ltd.
Goodfellow Inc.
Gorman Bros. Lumber Ltd.
Greendale Industries Inc.
GreenFirst Forest Products (QC) Inc.
Griff Building Supplies Ltd.
Groupe Crete Chertsey Inc.
Groupe Crete Division St-Faustin Inc.
Groupe Lebel inc.
H.J. Crabbe & Sons Ltd.
Haida Forest Products Ltd.
Halo Sawmill, a division of Delta Cedar Specialties Ltd.; Halo Sawmill Manufacturing Limited Partnership
Hampton Tree Farms, LLC, dba Hampton Lumber Sales Canada
Harmac Pacific
Harry Freeman & Son
Hillcore Lakeside Pacific Forest Products Ltd
Horizon Coatings Inc.
Hornepayne Lumber LP
Imperial Cedar Products, Ltd.
Imperial Shake Co. Ltd.
Independent Building Materials Distribution Inc.
Interfor Corporation; EACOM Timber Corporation; Chaleur Forest Products Inc.; Chaleur Forest Products LP
Interfor Sales & Marketing Ltd.
Ivor Forest Products Ltd.
J&G Log Works Ltd.
J.D. Irving, Limited; Irving Paper Limited; Miramichi Timber Holdings Limited; Rothesay Paper Holdings Ltd.; St. George Pulp & Paper Limited; The New Brunswick Railway Company
J.H. Huscroft Ltd.
Jan Woodlands (2001) Inc.
Jasco Forest Products Ltd.
Jazz Forest Products Ltd.
Jhajj Lumber Corporation
Kalesnikoff Lumber Co. Ltd.
Kan Wood Ltd.
Kebois Ltee/Ltd.
Kelfor Industries Ltd.
Kermode Forest Products Ltd.
Kings Wood Products Inc.
Kootenay Innovative Wood Ltd.
Lecours Lumber Co. Limited
Ledwidge Lumber Co., Ltd.
Les Bois d'oeuvre Beaudoin Gauthier Inc.
Les Chantiers de Chibougamau Ltd./Ltee
Les Industries P.F. Inc.
Les Produits Forestiers Sitka Inc. (aka Sitka Forest Products Inc.)
Leslie Forest Products Ltd.
Lignum Forest Products LLP
Linwood Homes Ltd.
Lonestar Lumber Inc
Longlac Lumber Inc.
Ludwig Lumber
Lulumco inc.
Madera Forest Products Inc
Magnum Forest Products, Ltd.
Maibec inc.
Manitou Forest Products Ltd
Marwood Ltd.
Materiaux Blanchet Inc.
Matsqui Management and Consulting Services Ltd., dba Canadian Cedar Roofing Depot
Metrie Canada Ltd.
Mid Valley Lumber Specialties Ltd.
Midway Lumber Mills Ltd.
Mill & Timber Products Ltd.
Mirax Lumber Products Ltd.
Mobilier Rustique (Beauce) Inc.; J.F.S.R. Inc.; Gestion C.A. Rancourt Inc.; Gestion J.F. Rancourt Inc.; Gestion Suzie Rancourt Inc.; Gestion P.H.Q. Inc.; 9331-3419 Quebec Inc.; 9331-3468 Quebec Inc.; SPQ Inc.
Monterra Lumber Mills Limited
Morwood Forest Products Inc.
MP Atlantic Wood Ltd.
Multicedre ltee
Nakina Lumber Inc.
National Forest Products Ltd.
New Future Lumber Ltd.
Nicholson and Cates Ltd.
NorSask Forest Products Limited Partnership; NorSask Forest Products Inc.
North American Forest Products Ltd. (located in Abbotsford, British Columbia)
North Enderby Timber Ltd.
Ntityix Resources LP
Oakwood Manufacturing, a division of Weston Forest Products Inc.
Oikawa Enterprises Ltd.
Olympic Industries, Inc.; Olympic Industries ULC
Oregon Canadian Forest Products Inc., dba Oregon Canadian Forest Products
Otter Point Timber LTD
Pacific Lumber Remanufacturing Inc.
Pacific NorthWest Lumber Ltd.
Pacific Western Wood Works Ltd.
Parallel Wood Products Ltd.
Partap Forest Products Ltd.
Peak Industries (Cranbrook) Ltd.
Phoenix Forest Products Inc.
Pine Ideas Ltd.
Pioneer Pallet & Lumber Ltd.
Plaster Rock Lumber Corporation
Porcupine Wood Products Ltd.
Power Wood Corp.
Precision Cedar Products Corp.
Probyn Log
Produits Forestiers Petit Paris Inc.
Produits Matra Inc.; Sechoirs de Beauce Inc.; Bois Ouvre de Beauceville (1992), Inc.
Promobois G.D.S. Inc.
R.A. Green Lumber Ltd.
Rembos Inc.
Rene Bernard inc.
Resolute FP Canada Inc.; 9192-8515 Quebec Inc.; Abitibi-Bowater Canada Inc.; Bowater Canadian Ltd.; Produits Forestiers Maurice SEC.; Resolute Forest Products Inc.
Richard Lutes Cedar Inc.
Rielly Industrial Lumber Inc.
River City Remanufacturing Inc.
Riverside Forest Products Inc.
S & K Cedar Products Ltd.
S&R Sawmills Ltd.
San Group
San Industries Ltd.
Sawarne Lumber Co. Ltd.
Scierie P.S.E. Inc.
Scierie St-Michel Inc.
Scierie West Brome Inc.
Scotsburn Lumber Co. Ltd.
Serpentine Cedar Ltd.
Serpentine Cedar Roofing Ltd.
Sexton Lumber Co. Ltd.
Shakertown Corp.
Sigurdson Forest Products Ltd.
Silver Creek Premium Products Ltd.
Sinclar Group Forest Products Ltd.
Skana Forest Products Ltd.
Sound Spars Enterprise Ltd.
South Beach Trading Inc.
South Coast Reman Ltd.
Specialiste du Bardeau de Cedre Inc. (aka SBC)
Storey Creek Trading
Straight Edge Milling Ltd.
Suncoast Industries Inc.
Sundher Timber Products Inc.
Surrey Cedar Ltd.
Taan Forest Limited Partnership (aka Taan Forest Products)
Taiga Building Products Ltd.
Tall Tree Lumber Company
Tembec Inc.
Temrex Produits Forestiers s.e.c.
Terminal Forest Products Ltd.
The Wood Source Inc.
Tolko Industries Ltd.; Tolko Marketing and Sales Ltd.; Meadow Lake OSB Limited Partnership
Top Quality Lumber Ltd.
Trans-Pacific Trading Ltd.
TRAPA Forest Products Ltd.
Triad Forest Products Ltd.
Tyee Timber Products Ltd
Universal Lumber Sales Ltd.
Usine Sartigan Inc.
Vancouver Island Shingle, Ltd.
Vancouver Specialty Cedar Products Ltd.
Vancouver Urban Timberworks Ltd. (aka Van Urban)
Vanderhoof Specialty Wood Products Ltd.
Visscher Lumber Inc.
W.I. Woodtone Industries Inc.
Waldun Forest Products Ltd.
Welco Lumber Corp.
West Bay Forest Products Ltd.
West Fraser Mills Ltd.; Blue Ridge Lumber Inc.; Manning Forest Products, Ltd.; Sundre Forest Products Inc.; Sunpine Inc.; West Fraser Alberta Holdings, Ltd.; West Fraser Timber Co. Ltd.
West Wind Hardwood Inc.
Western Canadian Timber Products LTD
Western Forest Products Inc.
Western Lumber Sales Limited
Western Wood Preservers Ltd.
Westminster Industries Ltd.
Weston Forest Products Inc.
Westrend Exteriors Inc.
Weyerhaeuser Co.
White River Forest Products L.P.
Woodline Forest Products Ltd.
Woodtone Specialties Inc.
WWW Timber Products Ltd.
Yarrow Wood Ltd.
GERMANY: Forged Steel Fluid End Blocks, C-428-848 | 1/1/24-12/31/24
BGH Edelstahl Siegen GmbH
ITALY: Forged Steel Fluid End Blocks, C-475-841 | 1/1/24-12/31/24
Lucchini Mamé Forge S.p.A; Lucchini RS S.p.A.; Lucchini Industries Srl; and Bicomet S.p.A.⁵
Officine Meccaniche Roselli S.r.l.
Cogne Acciai Speciali S.p.A.
Forge Monchieri S.p.A.
Metalcam S.p.A.; Adamello Meccanica S.r.l.; and B.S. S.r.l.⁶
THE PEOPLE'S REPUBLIC OF CHINA: Calcium Hypochlorite, C-570-009 | 1/1/24-12/31/24
Sinabuddy Mineral Co., Ltd.
Xuanxiang Ceramics Mfy Co., Ltd.

Suspension Agreements

None.

⁴ Commerce inadvertently omitted the company listed above from the January 27, 2025, Initiation Notice (90 FR 8187) for which a review request was submitted. We hereby correct this mistake and include the company in this notice.

⁵ Commerce previously determined that Lucchini Mamé Forge S.p.A; Lucchini RS S.p.A.; Lucchini Industries Srl; and Bicomet S.p.A. are cross-owned. See e.g., Forged Steel Fluid End Blocks from Italy: Final Results of Countervailing Duty Administrative Review, 89 FR 66678 (August 16, 2024).

⁶ Commerce previously determined that Metalcam S.p.A.; Adamello Meccanica S.r.l.; and B.S. S.r.l. are cross-owned. See e.g., Forged Steel Fluid End Blocks from Italy: Final Results of Countervailing Duty Administrative Review, 89 FR 66678 (August 16, 2024).

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://www.govinfo.gov/content/pkg/FR-2013-07-17/pdf/2013-17045.pdf, prior to submitting factual information in this segment. Note that Commerce has amended certain of its requirements pertaining to the service of documents in 19 CFR 351.303(f).⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Time Limits for Submission of Factual Information in Response to Questionnaires

Section 351.301(c) of Commerce's regulations states that during a proceeding, Commerce may issue to any person questionnaires, which includes both and initial and supplemental questionnaires. For all administrative review segments initiated after January 15, 2025, the following time limits apply:

(i) Initial questionnaire responses are due 30 days from the date of receipt of such questionnaire. The time limit for response to individual sections of the questionnaire, if Commerce requests a separate response to such sections, may be less than the 30 days allotted for response to the full questionnaire. In general, the date of receipt will be considered to be seven days from the date on which the initial questionnaire was transmitted.

(ii) Supplemental questionnaire responses are due on the date specified by Commerce.

(iii) A notification by an interested party, under section 782(c)(1) of the Act, of difficulties in submitting information in response to a questionnaire issued by Commerce is to be submitted in writing within 14 days after the date of the questionnaire or, if the questionnaire is due in 14 days or less, within the time specified by Commerce.

(iv) A respondent interested party may request in writing that Commerce conduct a questionnaire presentation. Commerce may conduct a questionnaire presentation if Commerce notifies the government of the affected country and that government does not object.

(v) Factual information submitted to rebut, clarify, or correct questionnaire responses. Within 14 days after an initial questionnaire response and within 10 days after a supplemental questionnaire response has been filed with Commerce, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. Commerce will reject any untimely filed rebuttal, clarification, or correction submission and provide, to the extent practicable, written notice stating the reasons for rejection. If insufficient time remains before the due date for the final determination or final results of review, Commerce may specify shorter deadlines under this section.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

Notification to Interested Parties

These initiations and this notice are in accordance with section 751(a) of the Act (19 U.S.C. 1675(a)) and 19 CFR 351.221(c)(1)(i).

Dated: February 14, 2025.
Scot Fullerton,
Acting Deputy Assistant Secretary for Antidumping and Countervailing Duty Operations.

[FR Doc. 2025-02891 Filed 2-20-25; 8:45 am]

BILLING CODE 3510-DS-P